DEPARTMENT OF AGRICULTURE

Forest Service

National Urban & Community Forestry Advisory Council Meeting

AGENCY: Forest Service, USDA.

ACTION: Notice of meeting.

SUMMARY: The National Urban and Community Forestry Advisory Council will meet in Washington, DC, February 7-9, 2006. The purpose of the meeting is to discuss emerging issues in urban and community forestry.

DATES: The meeting will be held February 7-9, 2006.

ADDRESSES: The meeting will be held at the Washington Terrace Hotel, 1515 Rhode Island Avenue, NW., Washington, DC 20005. Individuals who wish to speak at the meeting or to propose agenda items must send their names and proposals to Suzanne M. del Villar, Executive Assistant, National Urban and Community Forestry Advisory Council, P.O. Box 1003, Sugarloaf, CA 92386-1003. Individuals may fax their names and proposed agenda items to (909) 585-9527.

FOR FURTHER INFORMATION CONTACT: Suzanne M. del Villar, Urban and Community Forestry Staff, (909) 585-9268, or via e-mail at sdelvillar@fs.fed.us.

SUPPLEMENTARY INFORMATION: The meeting is open to the public. Council discussion is limited to Forest Service staff and Council members; however, persons who wish to bring urban and community forestry matters to the attention of the Council may file written statements with the Council staff before or after the meeting. Public input sessions will be provided.

Dated: January 10, 2006.
Robin L. Thompson,
Associate Deputy Chief, State and Private Forestry.

[FR Doc. E6-368 Filed 1-13-06; 8:45 am]

BILLING CODE 3410-11-P